DEPARTMENT OF THE TREASURY

Agency Information Collection Activities; Proposed Collection; Comment Request; COVID Relief Programs: Homeowner Assistance Fund and Emergency Rental Assistance

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before October 12, 2021.

ADDRESSES: Send comments regarding the burden estimate, or any other aspect of the information collection, including suggestions for reducing the burden, by any of the following methods:

• Federal eR-rulemaking Portal: http://www.regulations.gov. Follow the instructions for submitting comments. Refer to Docket Number TREAS-DO-2021-0013 and the specific Office of Management and Budget (OMB) control numbers 1505-0266, 1505-0269, or 1505-0270.

• Mail: Treasury PRA Clearance Officer, 1750 Pennsylvania Ave. NW, Suite 8100, Washington, DC 20220.

FOR FURTHER INFORMATION CONTACT: For questions related to these programs, please contact Vikram Viswanathan by emailing Vikram.viswanathan@treasury.gov, or calling (202) 380-8654. Additionally, you can view the information collection requests at www.reginfo.gov.

SUPPLEMENTARY INFORMATION: 1. Title: Emergency Rental Assistance Program (ERA1).

OMB Control Number: 1505-0266.

Type of Review: Extension of a currently approved collection.

Description: On December 27, 2020, the President signed the Consolidated Appropriations Act, 2021 (the “Act”), Public Law 116-260. Division N, Title V, Section 501(a)(1) of the Act established the Emergency Rental Assistance (ERA 1) program and provides $25 billion for the U.S. Department of the Treasury (Treasury) to make payments to States (defined to include the District of Columbia), U.S. Territories (Puerto Rico, U.S. Virgin Islands, Guam, Northern Mariana Islands, and American Samoa), Indian tribes or Tribally Designated Housing Entities, as applicable, the Department of Hawaiian Home Lands, and certain local governments with more than 200,000 residents (collectively the “eligible grantees”) to provide financial assistance and housing stability services to eligible households.

Forms: Award and Payment Forms, Compliance Reporting Forms.

Affected Public: State, Territorial, Tribal, and certain Local Governments.

Estimated Number of Respondents: 1,150.

Frequency of Response: Once, Monthly, Quarterly.

Estimated Total Number of Annual Responses: 4,276.

Estimated Time per Response: 15 minutes to 1 hour for award and payment forms, 4 hours to 30 hours for compliance reporting.

Estimated Total Annual Burden Hours: 47,598.

2. Title: Homeowner Assistance Fund.

OMB Control Number: 1505-0269.

Type of Review: Extension of a currently approved collection.

Description: On March 11, 2021, the President signed the American Rescue Plan Act of 2021 (the “Act”), Public Law 117-2. Title III, Subtitle B, Section 3206 of the Act established the Homeowner Assistance Fund and provides $9.961 billion for the U.S. Department of the Treasury (Treasury) to make payments to States (defined to include the District of Columbia, Puerto Rico, U.S. Virgin Islands, Guam, Northern Mariana Islands, and American Samoa), Indian tribes or Tribally Designated Housing Entities, as applicable, and the Department of Hawaiian Home Lands (collectively the “eligible entities”) to mitigate financial hardships associated with the coronavirus pandemic, including for the purposes of preventing homeowner mortgage delinquencies, defaults, foreclosures, loss of utilities or home energy services, and displacements of homeowners experiencing financial hardship after January 21, 2020, through qualified expenses related to mortgages and housing.

Forms: Award and Payment Forms, Title VI Assurance Form, and Grantee Templates and Term Sheets.

Affected Public: State and Tribal Governments.

Estimated Number of Respondents: 651.

Frequency of Response: Once.

Estimated Total Number of Annual Responses: 3,906.

Estimated Time per Response: 15 minutes to 2 hours.

Estimated Total Annual Burden Hours: 2,768.

3. Title: Emergency Rental Assistance Program (ERA2).

OMB Control Number: 1505-0270.

Type of Review: Extension of a currently approved collection.

Description: On March 11, 2021, the President signed the American Rescue Plan Act of 2021 (the “Act”), Public Law 117-2. Title III, Subtitle B, Section 3201 of the Act authorized the Emergency Assistance (ERA 2) program and provides $21.55 billion for the U.S. Department of the Treasury (Treasury) to make payments to States (defined to include the District of Columbia), U.S. Territories (Puerto Rico, U.S. Virgin Islands, Guam, Northern Mariana Islands, and American Samoa), and certain local governments with more than 200,000 residents (collectively the “eligible grantees”) to provide financial assistance and housing stability services to eligible households, and cover the costs for other affordable rental housing and eviction prevention activities for eligible households.

Forms: Awards and Payment Forms, Title VI Assurance Form, Compliance Reporting Forms.

Affected Public: State, Territorial and certain Local Governments.

Estimated Number of Respondents: 482.

Frequency of Response: Once, Monthly, Quarterly.

Estimated Total Number of Annual Responses: 4,078.

Estimated Time per Response: 15 minutes for award and payment forms, 30 minutes for Title VI Assurances, 1 hour to 30 hours for compliance reporting.

Estimated Total Annual Burden Hours: 46,731.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: August 9, 2021.
Molly Stasko,
Treasury PRA Clearance Officer.

[FR Doc. 2021-17264 Filed 8-11-21; 8:45 am]

BILLING CODE 4810-AK-P